DEPARTMENT OF THE INTERIOR

Bureau of Indian Affairs

25 CFR Part 151

[K00103 12/13 A3A10; 134D0102DR-DS5A300000-DR.5A311.IA000113; Docket ID: BIA-2013-0005]

RIN 1076-AF15

Land Acquisitions: Appeals of Land Acquisition Decisions

AGENCY: Bureau of Indian Affairs, Interior.

ACTION: Proposed rule; Correction.

SUMMARY: The Bureau of Indian Affairs (BIA) published a proposed rule in the Federal Register of May 29, 2013, announcing the proposed rule to revise a section of regulations governing decisions by the Secretary to approve or deny applications to acquire land in trust under 25 CFR part 151. This document makes corrections to the ADDRESSES section to provide the mail and hand delivery addresses.

DATES: Comments on this rule must be received by July 29, 2013.

FOR FURTHER INFORMATION CONTACT: Elizabeth Appel, Acting Director, Office of Regulatory Affairs & Collaborative Action, (202) 273-4680; elizabeth.appel@bia.gov.

SUPPLEMENTARY INFORMATION:

Need for Correction

The Mail and Hand Delivery address provided under the ADDRESSES section did not provide the full address. In proposed rule FR Doc. 2013-12708, published in the issue of May 29, 2013, make the following correction. On page 32214, third column, correct the ADDRESSES section to read as follows:

ADDRESSES: You may submit comments by any of the following methods:

—Federal rulemaking portal: http://www.regulations.gov. The rule is listed under the agency name “Bureau of Indian Affairs.” The rule has been assigned Docket ID: BIA-2013-0005.

—Email: consultation@bia.gov. Include the number 1076-AF15 in the subject line of the message.

—Mail: Elizabeth Appel, Office of Regulatory Affairs & Collaborative Action, U.S. Department of the Interior, 1849 C Street NW., Mail Stop 4141—MIB, Washington, DC 20240. Include the number 1076-AF15 in the submission.

—Hand Delivery: Elizabeth Appel, Office of Regulatory Affairs & Collaborative Action, U.S. Department of the Interior, 1849 C Street NW., Mail Stop 4141-MIB, Washington, DC 20240. Include the number 1076-AF15 in the submission.

We cannot ensure that comments received after the close of the comment period (see DATES) will be included in the docket for this rulemaking and considered. Comments sent to an address other than those listed above will not be included in the docket for this rulemaking.

Dated: June 11, 2013.
Kevin K. Washburn,
Assistant Secretary—Indian Affairs.

[FR Doc. 2013-14696 Filed 6-19-13; 8:45 am]

BILLING CODE 4310-6W-P